FEDERAL COMMUNICATIONS COMMISSION

[DA 07-4335]

Notice of Suspension and Initiation of Debarment Proceedings; Schools and Libraries Universal Service Support Mechanism

AGENCY: Federal Communications Commission.

ACTION: Notice.

SUMMARY: The Enforcement Bureau (the “Bureau”) gives notice of Mrs. Evelyn Myers Scott's (“Myers Scott”) suspension from the schools and libraries universal service support mechanism (or “E-Rate Program”). Additionally, the Bureau gives notice that debarment proceedings are commencing against her. Mrs. Myers Scott, or any person who has an existing contract with or intends to contract with her to provide or receive services in matters arising out of activities associated with or related to the schools and libraries support, may respond by filing an opposition request, supported by documentation to Diana Lee, Federal Communications Commission, Enforcement Bureau, Investigations and Hearings Division, Room 4-C330, 445 12th Street, SW., Washington, DC 20554.

DATES: Opposition requests must be received by December 5, 2007. However, an opposition request by the party to be suspended must be received 30 days from the receipt of the suspension letter or December 5, 2007, whichever comes first. The Bureau will decide any opposition request for reversal or modification of suspension or debarment within 90 days of its receipt of such requests.

FOR FURTHER INFORMATION CONTACT: Diana Lee, Federal Communications Commission, Enforcement Bureau, Investigations and Hearings Division, Room 4-C330, 445 12th Street, SW., Washington, DC 20554. Diana Lee may be contacted by phone at (202) 418-0843 or e-mail at diana.lee@fcc.gov. If Ms. Lee is unavailable, you may contact Ms. Vickie Robinson, Assistant Chief, Investigations and Hearings Division, by telephone at (202) 418-1420 and by e-mail at vickie.robinson@fcc.gov.

SUPPLEMENTARY INFORMATION: The Bureau has suspension and debarment authority pursuant to 47 CFR 54.521 and 47 CFR 0.111(a)(14). Suspension will help to ensure that the party to be suspended cannot continue to benefit from the schools and libraries mechanism pending resolution of the debarment process. Attached is the suspension letter, DA 07-4335, which was mailed to Mrs. Myers Scott and released on October 18, 2007. The complete text of the notice of debarment is available for public inspection and copying during regular business hours at the FCC Reference Information Center, Portal II, 445 12 Street, SW., Room CY-A257, Washington, DC 20554, In addition, the complete text is available on the FCC's Web site at http://www.fcc.gov. The text may also be purchased from the Commission's duplicating inspection and copying during regular business hours at the contractor, Best Copy and Printing, Inc., Portal II, 445 12th Street, SW., Room CY-B420, Washington, DC 20554, telephone (202) 488-5300 or (800) 378-3160, facsimile (202) 488-5563, or via e-mail http://www.bcpiweb.com.

Federal Communications Commission.
Hillary S. DeNigro,
Chief, Investigations and Hearings Division, Enforcement Bureau.

The suspension letter follows:

October 18, 2007

DA 07-4335

VIA CERTIFIED MAIL

RETURN RECEIPT REQUESTED AND FACSIMILE (404-261-2842)

Mrs. Evelyn Myers Scott, c/o Charles M. Abbott, Esq., C. Michael Abbott, P.C., 3127 Maple Drive, NE., Atlanta, GA 30305-2503, E-Mail: michael@michaelabbottlaw.com.

Re: Notice of Suspension and Initiation of Debarment Proceedings, File No. EB-07-IH-7305

Dear Mrs. Scott:

The Federal Communications Commission (“FCC” or “Commission”) has received notice of your conviction for conspiracy to defraud the United States in violation of 18 U.S.C. 371 in connection with your participation in the schools and libraries universal service support mechanism (“E-Rate program”).¹ Consequently, pursuant to 47 CFR 54.521, this letter constitutes official notice of your suspension from the E-Rate program. In addition, the Enforcement Bureau (“Bureau”) hereby notifies you that we are commencing debarment proceedings against you.²

¹ Any further reference in this letter to “your conviction” refers to your May 2, 2007 guilty plea and subsequent conviction of conspiracy to defraud the United States. United States v. Evelyn Myers Scott, Criminal Docket No. 1:07-CR-139-CC-02, Plea Agreement (N.D.Ga. filed May 2, 2007 and entered May 7, 2007) (“Myers Scott Plea Agreement”); United States v. Evelyn Myers Scott, 1:07-CR-139-CC-02, Judgment (N.D.Ga. filed and entered Oct. 2, 2007) (“Myers Scott Judgment”).

² 47 CFR 54.521; 47 CFR 0.111(a)(14) (delegating to the Enforcement Bureau authority to resolve universal service suspension and debarment proceedings pursuant to 47 CFR 54.521).

I. Notice of Suspension

The Commission has established procedures to prevent persons who have “defrauded the government or engaged in similar acts through activities associated with or related to the schools and libraries support mechanism” from receiving the benefits associated with that program.³ You pled guilty to engaging in a conspiracy to defraud the United States in connection with your participation in the E-Rate program.⁴ You admitted that while employed by the Atlanta Public Schools (“APS”) Information Services Department, you conspired with others, including your husband Arthur R. Scott (“Scott”), to enter into an E-Rate contract with a vendor on behalf of APS. In return for entering into the E-Rate contract, the vendor agreed to pay money to the consulting firm owned by you and Scott.⁵ The loss and the restitution that you owed to the E-Rate program resulting from the criminal offense was $300,176.10.⁶

³ See Schools and Libraries Universal Service Support Mechanism, Second Report and Order and Further Notice of Proposed Rulemaking, 18 FCC Rcd 9202, 9225, 66 (2003) (“Second Report and Order”). The Commission's debarment rules define a “person” as “[a]ny individual, group of individuals, corporation, partnership, association, unit of government or legal entity, however, organized.” 47 CFR 54.521(a)(6).

⁴ See generally United States v. Arthur R. Scott and Evelyn Myers Scott a/k/a Evelyn M. Myers, Criminal Docket No. 1:07-CR-139, Information (N.D.Ga. filed Apr. 30, 2007 and entered May 3, 2007) (“Scott and Myers Scott Information”); Myers Scott Plea Agreement at 1.

⁵ Scott and Myers Scott Information at 1-9. See also Letter from Hillary S. DeNigro, Chief, Investigations and Hearings Division, Enforcement Bureau, to Arthur R. Scott, DA 07-4336, dated October 18, 2007.

⁶ See Myers Scott Judgment at 5; see also Myers Scott Plea Agreement at 4.

Pursuant to section 54.521(a)(4) of the Commission's rules,⁷ your conviction requires the Bureau to suspend you from participating in any activities associated with or related to the schools and libraries fund mechanism, including the receipt of funds or discounted services through the schools and libraries fund mechanism, or consulting with, assisting, or advising applicants or service providers regarding the schools and libraries support mechanism.⁸ Your suspension becomes effective upon the earlier of your receipt of this letter or publication of notice in the Federal Register.⁹

⁷ 47 CFR 54.521(a)(4). See Second Report and Order, 18 FCC Rcd at 9225-9227, ¶67-74 (2003).

⁸ Second Report and Order, 18 FCC Rcd at 9225, ¶67; 47 U.S.C. 254; 47 CFR §§ 54.502-54.503; 47 CFR 54.521(a)(4).

⁹ Second Report and Order, 18 FCC Rcd at 9226, ¶69; 47 CFR 54.521(e)(1).

Suspension is immediate pending the Bureau's final debarment determination. In accordance with the Commission's debarment rules, you may contest this suspension or the scope of this suspension by filing arguments in opposition to the suspension, with any relevant documentation. Your request must be received within 30 days after you receive this letter or after notice is published in the Federal Register, whichever comes first.¹⁰ Such requests, however, will not ordinarily be granted.¹¹ The Bureau may reverse or limit the scope of suspension only upon a finding of extraordinary circumstances.¹² Absent extraordinary circumstances, the Bureau will decide any request for reversal or modification of suspension within 90 days of its receipt of such request.¹³

¹⁰ Second Report and Order, 18 FCC Rcd at 9226, ¶70; 47 CFR 54.521(e)(4).

¹¹ Second Report and Order, 18 FCC Rcd at 9226, ¶70.

¹² 47 CFR 54.521(e)(5).

¹³ See Second Report and Order, 18 FCC Rcd at 9226, ¶70; 47 CFR 54.521(e)(5), 54.521(f).

II. Initiation of Debarment Proceedings

Your guilty plea to criminal conduct in connection with the E-Rate program, in addition to serving as a basis for immediate suspension from the program, also serves as a basis for the initiation of debarment proceedings against you. Your conviction falls within the categories of causes for debarment defined in section 54.521(c) of the Commission's rules.¹⁴ Therefore, pursuant to section 54.521(a)(4) of the Commission's rules, your conviction requires the Bureau to commence debarment proceedings against you.

¹⁴ “Causes for suspension and debarment are the conviction of or civil judgment for attempt or commission of criminal fraud, theft, embezzlement, forgery, bribery, falsification or destruction of records, making false statements, receiving stolen property, making false claims, obstruction of justice and other fraud or criminal offense arising out of activities associated with or related to the schools and libraries support mechanism.” 47 CFR 54.521(c). Such activities “include the receipt of funds or discounted services through the schools and libraries support mechanism, or consulting with, assisting, or advising applicants or service providers regarding schools and libraries support mechanism described in this section ([47 CFR] 54.500 et seq.).” 47 CFR 54.521(a)(1).

As with your suspension, you may contest debarment or the scope of the proposed debarment by filing arguments and any relevant documentation within 30 calendar days of the earlier of the receipt of this letter or of publication in the Federal Register.¹⁵ Absent extraordinary circumstances, the Bureau will debar you.¹⁶ Within 90 days of receipt of any opposition to your suspension and proposed debarment, the Bureau, in the absence of extraordinary circumstances, will provide you with notice of its decision to debar.¹⁷ If the Bureau decides to debar you, its decision will become effective upon the earlier of your receipt of a debarment notice or publication of the decision in the Federal Register.¹⁸

¹⁵ See Second Report and Order, 18 FCC Rcd at 9226, ¶70; 47 CFR 54.521(e)(2)(i), 54.521(e)(3).

¹⁶ Second Report and Order, 18 FCC Rcd at 9227, ¶74.

¹⁷ See id., 18 FCC Rcd at 9226, ¶70; 47 CFR 54.521(e)(5).

¹⁸ Id. The Commission may reverse a debarment, or may limit the scope or period of debarment upon a finding of extraordinary circumstances, following the filing of a petition by you or an interested party or upon motion by the Commission. 47 CFR 54.521(f).

If and when your debarment becomes effective, you will be prohibited from participating in activities associated with or related to the schools and libraries support mechanism for three years from the date of debarment.¹⁹ The Bureau may, if necessary to protect the public interest, extend the debarment period.²⁰

¹⁹ Second Report and Order, 18 FCC Rcd at 9225, ¶ 67; 47 CFR 54.521(d), 54.521(g).

²⁰ Id.

Please direct any response, if by messenger or hand delivery, to Marlene H. Dortch, Secretary, Federal Communications Commission, 236 Massachusetts Avenue, NE., Suite 110, Washington, DC 20002, to the attention of Diana Lee, Attorney Advisor, Investigations and Hearings Division, Enforcement Bureau, Room 4-C330, with a copy to Vickie Robinson, Assistant Chief, Investigations and Hearings Division, Enforcement Bureau, Room 4-C330, Federal Communications Commission. If sent by commercial overnight mail (other than U.S. Postal Service Express Mail and Priority Mail), the response should be sent to the Federal Communications Commission, 9300 East Hampton Drive, Capitol Heights, Maryland 20743. If sent by first-class, Express, or Priority mail, the response should be sent to Diana Lee, Attorney Advisor, Investigations and Hearings Division, Enforcement Bureau, Federal Communications Commission, 445 12th Street, SW., Room 4-C330, Washington, DC 20554, with a copy to Vickie Robinson, Assistant Chief, Investigations and Hearings Division, Enforcement Bureau, Federal Communications Commission, 445 12th Street, SW., Room 4-C330, Washington, DC 20554. You shall also transmit a copy of the response via e-mail to diana.lee@fcc.gov and to vickie.robinson@fcc.gov.

If you have any questions, please contact Ms. Lee via mail, by telephone at (202) 418-1420 or by e-mail at diana.lee@fcc.gov. If Ms. Lee is unavailable, you may contact Ms. Vickie Robinson, Assistant Chief, Investigations and Hearings Division, by telephone at (202) 418-1420 and by e-mail at vickie.robinson@fcc.gov.

Sincerely yours,

Hillary S. DeNigro

Chief, Investigations and Hearings Division Enforcement Bureau

cc: Kristy Carroll, Esq., Universal Service Administrative Company (via e-mail) Aaron M. Danzig, Esq., Assistant United States Attorney

[FR Doc. E7-21719 Filed 11-2-07; 8:45 am]

BILLING CODE 6712-01-P